DEPARTMENT OF HEALTH AND HUMAN SERVICES

Health Resources and Services Administration

Health Information Technology Implementation

AGENCY: Health Resources and Services Administration, HHS.

ACTION: Notice of Noncompetitive Replacement Award to Tennessee Primary Care Association, Brentwood, Tennessee.

SUMMARY: The Health Resources and Services Administration (HRSA) will be transferring the American Recovery and Reinvestment Act (ARRA) (section 330 of the Public Health Service Act) Health Information Technology Implementation for Health Center Controlled Networks (HCCN) funds originally awarded to Community Health Network, Inc. (CHN), to the Tennessee Primary Care Association (TPCA) to ensure the implementation of a Health Center Controlled Network in the State of Tennessee.

SUPPLEMENTARY INFORMATION: Former Grantee of Record: Community Health Network, Inc.

Original Period of Grant Support: June 1, 2010, to May 31, 2012.

Replacement Awardee: Tennessee Primary Care Association.

Amount of Replacement Award: $1,807,399.60.

Period of Replacement Award: The period of support for the replacement award is December 1, 2011, to May 31, 2012.

Authority: Section 330 of the Public Health Service Act, 42 U.S.C. 245b.

CFDA Number: 93.703

Justification for the Exception to Competition

The former grantee (CHN) relinquished the grant and its responsibilities due to financial difficulties as well as management and legal concerns. TPCA has been a HRSA funded Primary Care Association since 1985 and is a well established organization with sound fiscal and grants management operations.

In the effort to preserve the opportunity to advance information technology resources of the Tennessee's medically underserved communities, TPCA has demonstrated the capacity to fulfill the expectations of the original grant award and has collaborated with CHN's Board of Directors to plan for a smooth transition of the grant.

The transfer of these funds will ensure full implementation of the grant which will greatly advance the State of Tennessee's continuity of care and have a positive impact on population health. It will also help the participating health centers to meet requirements for Meaningful Use and Patient Centered Medical Home programs by the Centers for Medicare and Medicaid Services (CMS), the National Committee for Quality Assurance (NCQA) and/or the Joint Commission.

The implementation of a Health Center Controlled Network would assist with the advancement and effective use of Health Information Technology. These advancements will result in measurable improvements in patient outcomes and reductions of health disparities for underserved communities in the State of Tennessee. As a result, in order to ensure a timely implementation of a Health Center Controlled Network in the State of Tennessee as originally awarded, this replacement award will not be competed.

FOR FURTHER INFORMATION CONTACT: Ms. Mayra Nicolas via phone at (301) 594-4294 or via email at mnicolas@hrsa.gov.

Dated: January 10, 2012.
Mary K. Wakefield,
Administrator.

[FR Doc. 2012-964 Filed 1-18-12; 8:45 am]

BILLING CODE 4165-15-P